DEPARTMENT OF HEALTH AND HUMAN SERVICES

Centers for Disease Control and Prevention

[30Day-53-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Aggregate Reports for Tuberculosis Program Evaluation (OMB No. 0920-0457)—Reinstatement without change—National Center for HIV, STD, and TB Prevention (NCHSTP), Centers for Disease Control and Prevention (CDC). CDC is requesting OMB approval to reinstate without change the Aggregate Reports for Tuberculosis Program Evaluation. This request is for a three-year extension of clearance. There are no revisions to the report forms, data definitions, or reporting instructions.

To ensure the elimination of tuberculosis in the United States, key program activities, such as finding tuberculosis infections in recent contacts of cases and in other persons likely to be infected and providing therapy for latent tuberculosis infection, must be monitored. In 2000, CDC implemented two program evaluation reports for annual submission: Aggregate report of follow-up for contacts of tuberculosis, and Aggregate report of screening and preventive therapy for tuberculosis infection (OMB No. 0920-0457). The respondents for these reports are the 68 state and local tuberculosis control programs receiving federal cooperative agreement funding through DTBE. These reports replaced two, twice-yearly program management reports in the Tuberculosis Statistics and Program Evaluation Activity (OMB 0920-0026): Contact Follow-up (CDC 72.16) and Completion of Preventive Therapy (CDC 72.21). The replacement reports emphasized treatment outcomes, high-priority target populations vulnerable to tuberculosis, and programmed electronic report entry and submission through the Tuberculosis Information Management System (TIMS).

No other Federal agency collects this type of national TB data, and the Aggregate report of follow-up for contacts of tuberculosis, and Aggregate report of screening and preventive therapy for tuberculosis infection are the only data source about latent tuberculosis infection for monitoring national progress toward tuberculosis elimination.

In addition to providing ongoing assistance about the preparation and utilization of these reports at the local and state levels of public health jurisdiction, CDC held three national training workshops about the reports and will convene additional workshops when requested by the respondents. CDC also provides respondents with technical support for the TIMS software. The annual burden for this data collection is 204 hours.

Respondents | Number of respondents | Number of responses/respondent | Avg. burden/response (in hours)
State & Local TB Control Programs | 68 | 1 | 90/60
State & Local TB Control Programs | 68 | 1 | 90/60

Dated: July 2, 2003.
Thomas A. Bartenfeld,
Acting Associate Director for Policy, Planning and Evaluation, Centers for Disease Control and Prevention.

[FR Doc. 03-17303 Filed 7-8-03; 8:45 am]

BILLING CODE 4163-18-P